DEPARTMENT OF JUSTICE

[OMB Number 1125-NEW]

Agency Information Collection Activities; Proposed Collection; Comments Requested; Notice of Entry of Limited Appearance for Document Assistance Before the Board of Immigration Appeals; and Notice of Entry of Limited Appearance for Document Assistance Before the Immigration Court

AGENCY: Executive Office for Immigration Review, Department of Justice.

ACTION: 60-Day notice.

SUMMARY: The Executive Office for Immigration Review, Department of Justice (DOJ), will be submitting the following information collection request to the Office of Management and Budget (OMB) for review and approval in accordance with the Paperwork Reduction Act of 1995.

DATES: Comments are encouraged and will be accepted for 60 days until October 29, 2021.

FOR FURTHER INFORMATION CONTACT: If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: (703) 305-0289.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1 Type of Information Collection: New collection.

2 The Title of the Form/Collection: Notice of Entry of Limited Appearance for Document Assistance Before the Board of Immigration Appeals; and Notice of Entry of Limited Appearance for Document Assistance Before the Immigration Court.

3 The agency form number, if any, and the applicable component of the Department sponsoring the collection: The form numbers are EOIR-60 and EOIR-61, Executive Office for Immigration Review, United States Department of Justice.

4 Affected public who will be asked or required to respond, as well as a brief abstract: Primary: Attorneys and Representatives; Pro Se Respondents in proceedings before EOIR. Other: None. Abstract: This information collection is necessary to allow an attorney or representative to notify the Board or the Immigration Court that he or she is entering a limited appearance to assist a pro se respondent with a legal filing or other document to be filed with EOIR. Pursuant to the Notice of Proposed Rulemaking, Professional Conduct for Practitioners—Rules and Procedures, and Representation and Appearances, 85 FR 61640 (Sept. 30, 2020), the agency indicated that it intended to revise in accordance with the rulemaking the currently approved Form EOIR-26, Notice of Appeal from a Decision of an Immigration Judge; Form EOIR-27, Notice of Entry of Appearance as Attorney or Representative Before the Board of Immigration Appeals; and Form EOIR-28, Notice of Entry of Appearance as Attorney or Representative Before the Immigration Court. However, after further consideration, the agency has determined that a separate stand-alone form for the entry of a limited appearance before each adjudicatory component would be the most appropriate method for the collection of this information. The separate forms EOIR-60 and EOIR-61 are intended to provide greater clarity to the practitioners using the forms, the pro se respondents who are only engaging with the practitioners in a limited capacity, and for the EOIR staff processing the forms.

5 An estimate of the total number of respondents and the amount of time estimated for an average respondent to respond: At this time, it is difficult for EOIR to estimate the total receipts it will receive for this new collection. Pursuant to the NPRM, EOIR estimated the total receipts would be at least as many receipts as received for the other two representation forms for the entry of appearance before the Immigration Court (Form EOIR-28) and the Board of Immigration Appeals (Form EOIR-27). These forms are used for attorneys or representatives who wish to appear on behalf of a respondent in pending proceedings, and remain the representative of record for the duration of the case. Those forms are not used for limited appearance purposes, but EOIR expects that at least some of those practitioners will enter limited appearances to assist respondents with document filings. So as not to under estimate the burden, EOIR will assume that it will receive as many entries for limited appearances as it does for full appearances—the total number of respondents for the Forms EOIR-60 and EOIR-61 are therefore expected to be 841,029 (the total receipts for the EOIR-27 (53,816) and EOIR-28 (787,213) for FY2019 as provided in the NPRM). The estimated average time to review and complete the forms is six minutes.

6 An estimate of the total public burden (in hours) associated with the collection: The total public burden of these revised collections are estimated to be 84,102.9 burden hours annually ((for Form EOIR-27, 53,816 respondents (FY 2019) × 1 response per respondent × 6 minutes per response = 5,381.6 burden hours) + (for Form EOIR-28, 787,213 respondents (FY 2019) × 1 response per respondent × 6 minutes per response = 78,721.3 burden hours) = 84,102.9 burden hours).

If additional information is required contact: Melody Braswell, Department Clearance Officer, United States Department of Justice, Justice Management Division, Policy and Planning Staff, Two Constitution Square, 145 N Street NE, 3E.405B, Washington, DC 20530.

Dated: August 25, 2021.
Melody D. Braswell,
Department Clearance Officer for PRA, U.S. Department of Justice.

[FR Doc. 2021-18591 Filed 8-27-21; 8:45 am]

BILLING CODE 4410-30-P